DEPARTMENT OF ENERGY

Federal Energy Regulatory Commission

[Project No. 12740-010]

Jordan Hydroelectric Limited Partnership; Flannagan Hydro, LLC; Notice of Application for Transfer of License and Soliciting Comments, Motions To Intervene, and Protests

On March 12, 2021, and supplemented on April 12, 2021, Jordan Hydroelectric Limited Partnership (transferor) and Flannagan Hydro, LLC (transferee) filed jointly an application for the transfer of license of the Flannagan Hydroelectric Project No. 12740. The proposed project would be located at the U.S. Army Corps of Engineers' (Corps) John W. Flannagan Dam and Reservoir on the Pound River, near the Town of Clintwood, in Dickenson County, Virginia.

The applicants seek Commission approval to transfer the license for the Flannagan Hydroelectric Project from the transferor to the transferee.

Applicants Contact: For transferor and transferee: Mr. James Price, President of General Partner, Jordan Hydroelectric Limited Partnership and President of Flannagan Hydro, LLC, P.O. Box 903, Gatlinburg, TN 37738, Email: jabboprice@bellsouth.net and Mr. Joshua E. Adrian, Thompson Coburn LLP, 1909 K Street NW, Suite 600, Washington, District of Columbia 20006, Phone: (202) 585-6922, Email: jadrian@thompsoncoburn.com.

FERC Contact: Anumzziatta Purchiaroni, (202) 502-6191, anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

In lieu of electronic filing, you may submit a paper copy. Submissions sent via U.S. Postal Service must be addressed to, Kimberly D. Bose, Secretary, Federal Energy Regulatory Commission, 888 First Street NE, Room 1A, Washington, DC 20426. Submissions sent via any other carrier must be addressed to, Kimberly D. Bose, Secretary, Federal Energy Regulatory Commission, 12225 Wilkins Avenue, Rockville, Maryland 20852. The first page of any filing should include docket number P-12740-010. Comments emailed to Commission staff are not considered part of the Commission record.

Dated: April 19, 2021.
Kimberly D. Bose,
Secretary.

[FR Doc. 2021-08521 Filed 4-22-21; 8:45 am]

BILLING CODE 6717-01-P